DEPARTMENT OF ENERGY

Federal Energy Regulatory Commission

[Docket No. RP02-129-004]

Southern LNG Inc.; Notice of Compliance Filing

October 30, 2002.

Take notice that on October 24, 2002, Southern LNG Inc. (SLNG) tendered for filing as part of its FERC Gas Tariff, Original Volume No. 1, the electronic version of the following revised sheets, with an effective date of March 1, 2002:

Second Revised Sheet No. 5

Original Sheet No. 105A

Second Revised Sheet No. 107

Second Revised Sheet No. 6

Original Sheet No. 105B

SLNG states that the purpose of this filing is to provide an electronic version of the above-referenced tariff sheets in compliance with the Commission's order issued on October 10, 2002 (October 10 Order), in the captioned proceeding. In the October 10 Order, the Commission accepted these tariff sheets with an effective date of March 1, 2002, to settle the rate proceeding in these dockets.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport @ferc.gov or toll-free at (866) 208-3676, or for TTY, contact (202) 502-8659. The Commission strongly encourages electronic filings. See, 18 CFR 385.2001(a)(1)(iii) and the instructions on the Commission's Web site under the “e-Filing” link.

Linwood A. Watson, Jr.,
Deputy Secretary.

[FR Doc. 02-28175 Filed 11-4-02; 8:45 am]

BILLING CODE 6717-01-P